COMMISSION ON CIVIL RIGHTS

Agenda and Notice of Public Meeting of the New Jersey Advisory Committee

Notice is hereby given, pursuant to the provisions of the rules and regulations of the U.S. Commission on Civil Rights, that a meeting of the New Jersey Advisory Committee to the Commission will convene at 9:30 a.m. and adjourn at 2 p.m. on Friday, September 29, 2000, at the New Jersey Training and Conference Center, 200 Woolverton Avenue, Building 20, Trenton, New Jersey. The Committee will meet to: (1) Hold a briefing session with the New Jersey State Attorney General John J. Farmer, Jr., on issues pertaining to racial profiling, law enforcement responses to bias, and the State's civil rights enforcement effort; and (2) review current projects and plan new activities.

Persons desiring additional information, or planning a presentation to the Committee, should contact Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, August 28, 2000.
Lisa M. Kelly,
Special Assistant to the Staff Director, Regional Programs Coordination Unit.

[FR Doc. 00-22504 Filed 8-31-00; 8:45 am]

BILLING CODE 6335-01-P